DEPARTMENT OF COMMERCE

National Oceanic and Atmospheric Administration

50 CFR Part 648

[Docket No. 990713189-9335-02; I.D. 060899B]

RIN 0648-AK79

Fisheries of the Northeastern United States; Spiny Dogfish Fishery Management Plan

AGENCY: National Marine Fisheries Service (NMFS), National Oceanic and Atmospheric Administration (NOAA), Commerce.

ACTION: Final rule; delay of effectiveness.

SUMMARY: NMFS delays the effective date of a final rule published January 11, 2000, from March 27, 2000, until April 3, 2000. The final rule was to have been effective February 10, 2000; however, its effectiveness was delayed until March 15, 2000, and again until March 27, 2000. The final rule will implement approved management measures for the spiny dogfish fishery, as contained in the Spiny Dogfish Fishery Management Plan (FMP). This action is being taken in order to provide the Secretary of Commerce with adequate time to evaluate the alternatives offered by the Mid-Atlantic and New England Fishery Management Councils (Councils) before proceeding with implementation of the FMP.

DATES: The effective date of the final rule implementing the Spiny Dogfish Fishery Management Plan (published on January 11, 2000, at 65 FR 1557) and whose effectiveness was delayed twice, first, to March 15, 2000 (65 FR 7461, February 15, 2000), and second, to March 27, 2000 (65 FR 15110, March 21, 2000), is further delayed until April 3, 2000.

FOR FURTHER INFORMATION CONTACT: Richard Pearson, Fishery Policy Analyst, at 978-281-0279.

SUPPLEMENTARY INFORMATION: The FMP was developed jointly by the Councils, with the Mid-Atlantic Council having the administrative lead. A Notice of Availability for the FMP was published in the Federal Register on June 29, 1999 (64 FR 34759), and solicited public comment through August 30, 1999. The proposed rule to implement the FMP was published in the Federal Register on August 3, 1999 (64 FR 42071), and solicited public comments through September 17, 1999. NMFS made the decision to partially approve the FMP on September 29, 1999. A final rule to implement the FMP was published in the Federal Register January 11, 2000 (65 FR 1557), to be effective on February 10, 2000. A delay in effectiveness of the final rule was filed on February 10, 2000, and published on February 15, 2000 (65 FR 7460), which made the effective date of this rule March 15, 2000. A second delay in effectiveness of the final rule was filed on March 15, 2000, and published on March 21, 2000 (65 FR 15110), which made the effective date of this rule March 27, 2000. The final rule will now be effective April 3, 2000.

Dated: March 27, 2000.
Andrew J. Kemmerer,
Acting Assistant Administrator for Fisheries, National Marine Fisheries Services.

[FR Doc. 00-7860 Filed 3-27-00; 3:25 pm]

BILLING CODE 3510-22-F